DEPARTMENT OF THE INTERIOR

Bureau of Land Management

[OR-130-1020-AL; GP9-0226]

Notice of Public Meeting, Eastern Washington Resource Advisory Council Meeting

AGENCY: Bureau of Land Management, Interior.

ACTION: Notice of public meeting.

SUMMARY: In accordance with the Federal Land Policy and Management Act of 1976 and the Federal Advisory Committee Act of 1972, Eastern Washington Resource Advisory Council will meet as indicated below.

DATES: Thursday, July 30, 2009, at the Colville National Forest Supervisor's Office, 765 S. Main, Colville, WA 99114.

SUPPLEMENTARY INFORMATION: The meeting will start at 10 a.m. and end at 3:30 p.m. The meeting will be open to the public and there will be an opportunity for public comments at 10:30 a.m. Discussion will focus on the management of the Colville National Forest Roadless Areas, Forest Plan Revision, and updates on other projects of interest. The Eastern Washington Resource Advisory Council is composed of 15 members appointed by the Secretary of the Interior to provide advice to the Bureau of Land Management Spokane District and the Colville and Okanogan National Forests.

FOR FURTHER INFORMATION CONTACT: BLM Spokane District, 1103 N. Fancher Rd., Spokane Valley, WA 99212, or call (509) 536-1200.

Dated July 2, 2009.
Sally Sovey,
Acting District Manager.

[FR Doc. E9-16220 Filed 7-8-09; 8:45 am]

BILLING CODE 4310-33-P